DEPARTMENT OF HEALTH AND HUMAN SERVICES

Food and Drug Administration

Blood Products Advisory Committee; Notice of Meeting

AGENCY: Food and Drug Administration, HHS.

ACTION: Notice.

This notice announces a forthcoming meeting of a public advisory committee of the Food and Drug Administration (FDA). The meeting will be open to the public.

Name of Committee: Blood Products Advisory Committee.

General Function of the Committee: To provide advice and recommendations to the agency on FDA's regulatory issues.

Date and Time: The meeting will be held on March 14, 2002, from 8 a.m. to 5:30 p.m. and on March 15, 2002, from 8 a.m. to 4 p.m.

Location: Gaithersburg Holiday Inn, Two Montgomery Village Ave., Gaithersburg, MD.

Contact Person: Linda A. Smallwood, Center for Biologics Evaluation and Research (HFM-302), Food and Drug Administration, 1401 Rockville Pike, Rockville, MD 20852, 301-827-3514, or FDA Advisory Committee Information Line, 1-800-741-8138 (301-443-0572 in the Washington, DC area), code 19516. Please call the Information Line for up-to-date information on this meeting.

Agenda: On March 14, 2002, the following committee updates are tentatively scheduled: (1) Nucleic acid testing for whole blood, including standards for human immune deficiency virus and hepatitis C virus RNA; (2) nucleic acid testing for parvovirus B19; (3) nucleic acid testing for hepatitis A virus; and (4) announcement of planned FDA workshops. The committee will hear an informational presentation on emergency preparedness for the blood supply. In the afternoon, the committee will hear presentations, discuss and make recommendations on percutaneous exposure of blood and plasma donors: Tattoos and body piercing. On March 15, 2002, the committee will hear informational presentations and have discussion on the review of data supporting extension of the dating period for platelets, and in the afternoon, bacterial and fungal safety of tissue.

Procedure: Interested persons may present data, information, or views, orally or in writing, on issues pending before the committee. Written submissions may be made to the contact person by March 1, 2002. Oral presentations from the public will be scheduled between approximately 12:30 p.m. and 1 p.m., and 3:45 p.m. and 4:45 p.m. on March 14, 2002, and between approximately 9:30 a.m. and 10 a.m., and 2:30 p.m. and 3 p.m. on March 15, 2002. Time allotted for each presentation may be limited. Those desiring to make formal oral presentations should notify the contact person before March 1, 2002, and submit a brief statement of the general nature of the evidence or arguments they wish to present, the names and addresses of proposed participants, and an indication of the approximate time requested to make their presentation.

Persons attending FDA's advisory committees are advised that the agency is not responsible for providing access to electrical outlets.

FDA welcomes the attendance of the public at its advisory committee meetings and will make every effort to accommodate persons with physical disabilities or special needs. If you require special accommodations due to a disability, please contact Linda A. Smallwood, or Jane Brown at 301-827-1296 at least 7 days in advance of meeting.

Notice of this meeting is given under the Federal Advisory Committee Act (5 U.S.C. app. 2).

Dated: February 22, 2002.
Linda A. Suydam,
Senior Associate Commissioner for Communications and Constituent Relations.

[FR Doc. 02-4680 Filed 2-27-02; 8:45 am]

BILLING CODE 4160-01-S